DEPARTMENT OF HEALTH AND HUMAN SERVICES

Administration for Children and Families

Community Services Block Grant Community Economic Development Public Markets

AGENCY: Administration for Children and Families, Office of Community Services.

Announcement Type: Competitive Grant-Initial.

Funding Opportunity Number: HHS-2004-ACF-OCS-IP-0029.

CFDA Number: 93.570.

DATES: Applications are due September 16, 2004.

I. Funding Opportunity Description

The Community Services Block Grant (CSBG) Act of 1981, as amended, (Section 680 of the Community Opportunities, Accountability, and Training and Educational Services Act of 1998), authorizes the Secretary of the U.S. Department of Health and Human Services (HHS) to make grants to provide technical and financial assistance for economic development activities designed to address the economic needs of low-income individuals and families by creating employment and business development opportunities. Pursuant to this announcement, the Office of community Services (OCS) will award grants to Community Development Corporations (CDCs) to expand or create public markets. CDCs should ideally have in place written commitments for at least 50 percent of non-CED funding, a business plan, and site control for the market. Low income beneficiaries of these projects include those who are determined to be living in poverty as determined by the HHS Guidelines on Poverty (See Appendix A). They may be unemployed, on public assistance, including Temporary Assistance for Needy Families (TANF), are at risk teenagers, custodial and non-custodial parents, public housing residents, persons with disabilities and persons who are homeless.

The public markets priority area is designed to encourage rural and urban community development corporations to create projects intended to provide employment and business development opportunities for low-income people through public markets.

Applicants must address development or expansion of a market both from the perspective of the business of operating a public market and of providing development services to vendors, who will be micro entrepreneurs or small business owners. Development services to vendors include training on business planning, marketing, accounting, legal issues including licensure, micro-loans, etc. New, start-up markets seeking capital funding from OCS must have their business and work plans in place or close to finalization, have at least 50 percent non-CED funding in place, and have site control.

The establishment of viable public markets is the expected outcome of funding under this announcement. These public markets must demonstrate benefits for vendors and their employees. This includes the number of new businesses created or expanded and the numbers of jobs created. Public market benefits are also expected to impact the communities and CDCs must develop measures to demonstrate this impact. Communities served include low income communities and communities undergoing demographic shifts; i.e., there may be appropriate cases where public markets are in or proximate to a distressed community, but in a location where customer draw can be more diverse and thus make the market more likely to be economically sustainable.

In addition to an economic development capability, the public market may contain a non-profit community or public agency space for human services delivery, which might include faith-based and other organizations that provide education, training, and resources for developing healthy lifestyles, relationships, marriages, and families. Other community services to be provided might include general medical testing (diabetes, blood pressure, etc.) and referrals for child care, nutrition services, and counseling.

By improving the economic and social status of low income individuals and their families, Public Markets can reduce poverty and the need for TANF assistance by giving a sense of ownership over one's life. This fosters a liberating internal sense of fulfillment and balance, which nourishes positive and constructive attitudes, behaviors, and moral character traits that build and stabilize healthy relationships, marriages, families, and communities.

Project Goals

CED projects should further HHS goals of strengthening American marriages and families and promoting their self-sufficiency, and ACF goals of promoting healthy families in healthy communities. The CED Program is particularly directed toward public-private partnerships that develop employment and business development opportunities for low-income people and revitalize distressed communities. By providing access to opportunity, CED projects help build economic and social capital in low income individuals, and thereby help stabilize and strengthen relationships, marriages, families, and produce healthier environments for children. Public Markets have a unique role in building healthier, more prosperous and diverse communities, and therefore also serve as a useful-if not essential-tool for strengthening the safety of neighborhoods, towns, cities, states, and the nation as a whole.

Although there is no cost sharing or matching requirement for this program, most public market projects require significant funding in addition to Federal CED funds so applicants are strongly encouraged to mobilize the resources needed for a successful project. The ability to mobilize resources is considered in evaluating the feasibility of a proposal. Please note that ash resources such as cash or loans contributed from all project sources (except for those contributed directly by the applicant) must be documented by letters of commitment from third parties making the contribution. Further, the value of in-kind contributions for personal property is documented by an inventory valuation for equipment and a certified appraisal for real property and a copy of a deed or other legal documents are required for real property. Please note that anticipated or projected program income such as gross or net profits from the project or business operations will not be recognized as mobilized or contributed resources.

Applicants are strongly encouraged to provide adequate source documentation proving sufficiency of sound financial management systems such as a signed statement from a Certified or Licensed Public Accountant as to the sufficiency of the applicant CDC's financial management system and/or financial statements for the CDC for the prior three years. If such statements are not available because the CDC is a newly formed entity, the application can include a statement to this effect, “CDC grantees are responsible for ensuring that all grant funds are expended in compliance with applicable federal regulations and Federal Office of Management Budget Circulars”.

Project Scope

Projects must result in the creation of new businesses and jobs. Each applicant must describe the project scope including the low-income community to be served, business activities to be undertaken, and the types of jobs to be created.

Business Plan

Applications are strongly encouraged to submit a business plan. This business plan covers the development or expansion of the market, not the individual business plans of vendors.

The ability to demonstrate an effective business plan that outlines a successful business venture and/or economic development project will be closely reviewed and evaluated by an expert review panel, OCS, and OGM. Please see Section V.I Evaluation Criteria for specific criterion related to the business plan. Ideally, strong business plans should address all the relevant elements as follows:

(1) Executive Summary (limit to 2 pages).

(2) Description of the business: The business as a legal entity and its general business category. Business activities must be described by Standard Industrial Codes (SIC) using the North American Industry Classification System (NAICS) and jobs by occupational classification. This information is published by the U. S. Department of Commerce in the Statistical Abstract of the United States, 1998, Tables No. 679 and 680. These tables include information necessary to meet this requirement.

(3) Description of the industry, current status and prospects.

(4) Products and Services, including detailed descriptions of:

(a) Products or services to be sold;

(b) Proprietary position of any of the products, e.g., patents, copyright, trade secrets;

(c) Features of the product or service that may give it an advantage over the competition;

(5) Market Research: This section describes the research conducted to assure that the business has a substantial market to develop and achieve sales in the face of competition. This includes researching:

(a) Customer base: Describe the actual and potential purchasers for the product or service by market segment.

(b) Market size and trends: Describe the site of the current total market for the product or service offered;

(c) Competition: Provide an assessment of the strengths and weaknesses of the competition in the current market;

(d) Estimated market share and sales: Describe the characteristics of the product or service that will make it competitive in the current market;

(6) Marketing Plan: The marketing plan details the product, pricing, distribution, and promotion strategies that will be used to achieve the estimated market share and sales projections. The marketing plan must describe what is to be done, how it will be done and who will do it. The plan addresses overall marketing, strategy, packaging, service and warranty, pricing, distribution and promotion.

(7) Design and Development Plans: If the product, process or service of the proposed venture requires any design and development before it is ready to be placed on the market, describe the nature, extent and cost of this work. The section covers items such as development status and tasks, difficulties and risks, product improvement and new products and costs.

(8) Operations Plan: An operations plan describes the kind of facilities, site location, space, capital equipment and labor force (part and/or full time and wage structure) that are required to provide the company's product or service.

(9) Management Team: This section describes the technical, managerial and business skills and experience to be brought to the project. This is a description of key management personnel and their primary duties; compensation and/or ownership; the organizational structure and placement of this proposed project within the organization; the board of directors; management assistance and training needs; and supporting professional services.

(10) Overall Schedule: This section is the implementation plan which shows the timing and interrelationships of the major events or benchmarks necessary to launch the venture and realize its objectives. This includes a month-by-month schedule of activities such as product development, market planning, sales programs, production and operations. If the proposed project is for construction, this section lays out timeframes for conduct of predevelopment, architectural, engineering and environmental and other studies, and acquisition of permits for building, use and occupancy that are required for the project.

(11) Business and Job Creation: This section describes the business development and job creation activities and projections expected as a result of this project. This includes a description of the strategy that will be used to identify and hire individuals who are low-income, including those on TANF. This section includes the following:

(a) The number of permanent jobs that will be created during the project period, with particular emphasis on jobs for low-income individuals.

(b) The number of new businesses and/or jobs that will be filled by low-income individuals (this must be at least 60 percent of all jobs created).

(c) For low-income individuals who become self-employed, the number of self-employed and other ownership opportunities created; specific steps to be taken including on going management support and technical assistance provided by the grantee or a third party to develop and sustain self-employment after the businesses are in place; and expected net profit after deductions of business expenses;

Note: OCS will not recognize job equivalents nor job counts based on economic multiplier functions; jobs must be specifically identified.

(12) Financial Plan: The financial plan demonstrates the economic supports underpinning the project. It shows the project's potential and the timetable for financial self-sufficiency. The following exhibits must be submitted for the first two years of the public market's operation:

(a) Profit and Loss Forecasts—quarterly for each year;

(b) Cash Flow Projections—quarterly for each year;

(c) Pro forma balance sheets—quarterly for each year;

(d) Sources and Use of Funds Statement for all funds available to the project;

(e) Brief summary discussing any further capital requirements and methods or projected methods for obtaining needed resources.

(13) Critical Risks and Assumptions: This section covers the risks faced by the project and assumptions surrounding them. This includes a description of the risks and critical assumptions relating to the industry, the venture, its personnel, the product or service market appeal, and the timing and financing of the venture.

(14) Community Benefits: This section describes other economic and non-economic benefits to the community such as development of a community's physical assets; provision of needed, but currently unsupplied, services or products to the community; or improvement in the living environment.

Work Plan

In addition to the ability to demonstrate an effective business plan, applicants will also be evaluated on the extent to which they demonstrate an effective work plan. Please see Section V.I Evaluation Criteria for specific criterion related to the work plan. Ideally, an applicant should include a detailed work plan that covers the activities to be undertaken and benchmarks that illustrate progress toward stated goals and measurable objectives.

Third Party Agreements

Applicants that propose to use some or all of the requested CED funds to enter into a third party agreement in order to make an equity investment, such as the purchase of stock or a loan to an organization or business entity (including a wholly-owned subsidiary), are required to submit the signed Third Party Agreement in the application, along with the business plan, for approval by OCS.

It should be noted that the portion of a grant that will be used to fund project activities related to a third party agreement will not be released until the agreement has been approved by OCS.

All third party agreements must include written commitments as follows: From third party (as appropriate): (1) Low-income individuals will fill a minimum of 60 percent of the jobs to be created from project activities as a result of the injection of grant funds. (2) The grantee will have the right to screen applicants for jobs to be filled by low-income individuals and to verify their eligibility. (3) If the grantee's equity investment equals 25 percent or more of the business' assets, the grantee will have representation on the board of directors. (4) Reports will be made to the grantee regarding the use of grant funds on a quarterly basis or more frequently, if necessary. (5) Procedures will be developed to assure that there are no duplicate counts of jobs created. (6) That the third party will maintain documentation related to the grant objectives as specified in the agreement and will provide the grantee and HHS access to that documentation. From the grantee: (1) Detailed information on how the grantee will provide support and technical assistance to the third party in areas of recruitment and retention of low-income individuals. (2) How the grantee will provide oversight of the grant-supported activities of the third party for the life of the agreement. Detailed information must be provided on how the grant funds will be used by the third party by submitting a Sources and Uses of Funds Statement.

A third party agreement covering an equity investment must contain, at a minimum, the following: (1) Purpose(s) for which the equity investment is being made. (2) The type of equity transaction (e.g. stock purchase). (3) Cost per share and basis on which the cost per share is derived. (4) Number of shares being purchased. (5) Percentage of CDC ownership in the business. (6) Term of duration of the agreement. (7) Number of seats on the board, if applicable. (8) Signatures of the authorized officials of the grantee and third party organization.

A third party agreement covering a loan transaction must contain, at a minimum, the following information: (1) Purpose(s) for which the loan is being made. (2) Interest rates and other fees. (3) Terms of the loan. (4) Repayment schedules. (5) Collateral security. (6) Default and collection procedures. (7) Signatures of the authorized officials of the lender and borrower.

Evaluation Plan

Applications must include provision for an independent and methodologically sound evaluation of the effectiveness of the activities carried out with the grant and their efficacy in creating new jobs and business ownership opportunities. There must be a well-defined process evaluation, and an outcome evaluation whose design will permit tracking of project participants throughout the proposed project period. The evaluation must be conducted by an independent evaluator, i.e., a person with recognized evaluation skills who is organizationally distinct from, and not under the control of, the applicant. It is important that each successful applicant have a third-party evaluator selected, and implement their role at the very latest by the time the work program of the project is begun, and if possible before that time so that he or she can participate in the design of the program, in order to assure that data necessary for the evaluation will be collected and available.

Definitions of Terms

The following definitions apply:

Beneficiaries—Low-income individuals (as defined in the most recent annual revision of the Poverty Income Guidelines published by the U.S. Department of Health and Human Services) who receive direct benefits and low-income communities that receive direct benefits.

Budget Period—The time interval into which a grant period is divided for budgetary and funding purposes.

Business Start-up Period—Time interval within which the grantee completes preliminary project tasks. These tasks include but are not limited to assembling key staff, executing contracts, administering lease out or build-out of space for occupancy, purchasing plant and equipment and other similar activities. The Business Start-Up Period typically takes three to six months from the time OCS awards the grant or cooperative agreement.

Cash contributions—The recipient's cash outlay, including the outlay of money contributed to the recipient by the third parties.

Community Development Corporation (CDC)—A private non-profit corporation governed by a board of directors consisting of residents of the community and business and civic leaders, which has as a principal purpose planning, developing, or managing low-income housing or community development activities.

Community Economic Development (CED)—A process by which a community uses resources to attract capital and increase physical, commercial, and business development, as well as job opportunities for its residents.

Construction projects—Projects that involve land improvements and development or major renovation of (new or existing) facilities and buildings, fixtures, and permanent attachments.

Developmental/Research Phase—The time interval during the Project Period that precedes the Operational Phase. Grantees accomplish preliminary activities during this phase including establishing third party agreements, mobilizing monetary funds and other resources, assembling, rezoning, and leasing of properties, conducting architectural and engineering studies, constructing facilities, etc.

Displaced worker—An individual in the labor market who has been unemployed for six months or longer.

Distressed community—A geographic urban neighborhood or rural community of high unemployment and pervasive poverty.

Employment education and training program—A program that provides education and/or training to welfare recipients, at-risk youth, public housing tenants, displaced workers, homeless and low-income individuals and that has demonstrated organizational experience in education and training for these populations.

Empowerment Zone and Enterprise Community Project Areas (EZ/EC)—Urban neighborhoods and rural areas designated as such by the Secretaries of Housing and Urban Development and Agriculture.

Equity investment—The provision of capital to a business entity for some specified purpose in return for a portion of ownership using a third party agreement as the contractual instrument.

Faith-Based Community Development Corporation—A community development corporation that has a religious character.

Hypothesis—An assumption made in order to test a theory. It should assert a cause-and-effect relationship between a program intervention and its expected result. Both the intervention and its result must be measured in order to confirm the hypothesis. The following is a hypothesis: “Eighty hours of classroom training will be sufficient for participants to prepare a successful loan application.” In this example, data would be obtained on the number of hours of training actually received by participants (the intervention), and the quality of loan applications (the result), to determine the validity of the hypothesis (that eighty hours of training is sufficient to produce the result).

Intervention—Any planned activity within a project that is intended to produce changes in the target population and/or the environment and that can be formally evaluated. For example, assistance in the preparation of a business plan is an intervention.

Job creation—New jobs, i.e. jobs not in existence prior to the start of the project, that result from new business start-ups, business expansion, development of new services industries, and/or other newly-undertaken physical or commercial activities.

Job placement—Placing a person in an existing vacant job of a business, service, or commercial activity not related to new development or expansion activity.

Letter of commitment—A signed letter or agreement from a third party to the applicant that pledges financial or other support for the grant activities contingent only on OCS accepting the applicant's project proposal.

Loan—Money lent to a borrower under a binding pledge for a given purpose to be repaid, usually at a stated rate of interest and within a specified period.

Non-profit Organization—An organization, including faith-based and community-based, that provides proof of non-profit status described in the “Additional Information on Eligibility” section of this announcement.

Operational Phase—The time interval during the Project Period when businesses, commercial development or other activities are in operation, and employment, business development assistance, and so forth are provided.

Outcome evaluation—An assessment of project results as measured by collected data that define the net effects of the interventions applied in the project. An outcome evaluation will produce and interpret findings related to whether the interventions produced desirable changes and their potential for being replicated. It should answer the question: Did this program work?

Poverty Income Guidelines—Guidelines published annually by the U.S. Department of Health and Human Services that establish the level of poverty defined as low-income for individuals and their families. The guideline information is posted on the Internet at the following address: http://www.hhs.aspe.gov/poverty/

Process evaluation—The ongoing examination of the implementation of a program. It focuses on the effectiveness and efficiency of the program's activities and interventions (for example, methods of recruiting participants, quality of training activities, or usefulness of follow-up procedures). It should answer the questions such as: Who is receiving what services and are the services being delivered as planned? It is also known as formative evaluation, because it gathers information that can be used as a management tool to improve the way a program operates while the program is in progress. It should also identify problems that occurred, how the problems were resolved and what recommendations are needed for future implementation.

Pre-Development Phase—The time interval during the Project Period when an applicant or grantee plans a project, conducts feasibility studies, prepares a business or work plan and mobilizes non-OCS funding.

Program income—Gross income earned by the grant recipient that is directly generated by an activity supported with grant funds.

Project Period—The total time for which a project is approved for OCS support, including any approved extensions.

Revolving loan fund—A capital fund established to make loans whereby repayments are re-lent to other borrowers.

Self-employment—The employment status of an individual who engages in self-directed economic activities.

Self-sufficiency—The economic status of a person who does not require public assistance to provide for his/her needs and that of his/her immediate family.

Sub-award—An award of financial assistance in the form of money, or property, made under an award by a recipient to an eligible sub-recipient or by a sub-recipient to a lower tier sub-recipient. The term includes financial assistance when provided by any legal agreement, even if the agreement is called a contract, but does not include procurement of goods and services nor does it include any form of assistance which is excluded from the definition of “award” in 45 CFR Part 74.

Technical assistance—A problem-solving event generally using the services of a specialist. Such services may be provided on-site, by telephone or by other communications. These services address specific problems and are intended to assist with immediate resolution of a given problem or set of problems.

Temporary Assistance for Needy Families (TANF)—The Federal block grant program authorized in Title I of the Personal Responsibility and Work Opportunity Reconciliation Act of 1996 (Pub. L. 104-193). The TANF program transformed “welfare” into a system that requires work in exchange for time-limited assistance.

Third party—Any individual, organization or business entity that is not the direct recipient of grant funds.

Third party agreement—A written agreement entered into by the grantee and an organization, individual or business entity (including a wholly owned subsidiary), by which the grantee makes an equity investment or a loan in support of grant purposes.

Third party in-kind contributions—Non-cash contributions provided by non-Federal third parties. These contributions may be in the form of real property, equipment, supplies and other expendable property, and the value of goods and services directly benefiting and especially identifiable to the project or program.

II. Award Information

Funding Instrument Type: Grant.

Anticipated total priority area funding: $1,000,000.

Anticipated number of awards: 4-6 per project period.

Ceiling of Individual Awards: $250,000 per project period.

Floor on amount of individual awards: None.

Average Projected Award Amount: $250,000 per project period.

Project Periods for Awards: Applications for projects that are exclusively construction, major alteration or renovation may request a budget and project period up to 2 years. Applications for non-construction projects may request a budget and project period up to 17 months.

III. Eligibility Information

1. Eligible Applicants

Nonprofits having a 501(c)(3) status with the IRS, other than institutions of higher education and Nonprofits that do not have a 501(c)(3) status with the IRS, other than institutions of higher education.

Faith-based organizations are eligible to apply for these grants.

Additional Information on Eligibility: Applicants must demonstrate proof of non-profit status and this proof must be included in their applications (see section IV. 2). Proof of non-profit status is any one of the following:

(a) A reference to the applicant organization's listing in the Internal Revenue Service's (IRS) most recent list of tax-exempt organizations described in the IRS code.

(b) A copy of a currently valid IRS tax exemption certificate.

(c) A statement from a State taxing body, State Attorney General, or other appropriate State official certifying that the applicant organization has a non-profit status and that none of the net earnings accrue to any private shareholders or individuals.

(d) A certified copy of the organization's certificate of incorporation or similar document that clearly establishes non-profit status.

(e) Any of the items in the subparagraphs immediately above for a State or national parent organization and a statement signed by the parent organization that the applicant organization is a local non-profit affiliate.

In addition to demonstrating proof of non-profit status, applicants must also demonstrate proof of CDC status. This proof must be included in their applications. Proof of CDC status is any one of the following:

• A list of governing board members along with their designation as a community resident or business or civic leader; and

• Documentation that the applicant organization has as a primary purpose planning, developing or managing low-income housing or community development activities. This documentation may include incorporation documents or other official documents that identify the organization.

Applicants are cautioned that the ceiling for individual awards is $250,000. An application that exceeds the upper value of the dollar range specified will be considered “non-responsive” and will be returned to the applicant without further review.

2. Cost Sharing or Matching

None.

3. Other

On June 27, 2003 the Office of Management and Budget published in the Federal Register a new Federal policy applicable to all Federal grant applicants. The policy requires all Federal grant applicants to provide a Dun and Bradstreet Data Universal Numbering System (DUNS) number when applying for Federal grants or cooperative agreements on or after October 1, 2003. The DUNS number will be required whether an applicant is submitting a paper application or using the government-wide electronic portal (http://www.grants.gov). A DUNS number will be required for every application for a new award or renewal/continuation of an award, including applications or plans under formula, entitlement and block grant programs, submitted on or after October 1, 2003. Please ensure that your organization has a DUNS number. You may acquire a DUNS number at no cost by calling the dedicated toll-free DUNS number request line on 1-866-705-5711 or you may request a number on-line at http://www.dnb.com.

Applications are cautioned that the ceiling for individual awards is $250,000. Applications exceeding the $250,000 threshold will be considered non-responsive and returned without review.

Applications that fail to submit proof of non-profit status with their applications will be considered non-responsive and returned without review.

Applications that fail to submit proof of CDC status with their applications will be considered non-responsive and returned without review.

IV. Application and Submission Information

IV.1. Address To Request Application Package

Office of Community Services, Operations Center, 1815 North Fort Myer Drive, Suite 300, Arlington, Virginia 22209, e-mail: ocs@lcgnet.com, Telephone: (800) 281-9519.

URL to Obtain an Application Package: http://www.acf.hhs.gov/programs/ocs.

IV.2. Content and Form of Application Submission

This subsection provides detailed instructions for developing the application. Please see Section V “Application Review Information” for additional relevant information.

You may submit your application to us in either electronic or paper format. To submit an application electronically, please use the http://www.grants.gov site. If you use Grants.gov, you will be able to download a copy of the application package, complete it off-line, and then upload and submit the application via the Grants.gov site. You may not e-mail an electronic copy of a grant application to us.

Please note the following if you plan to submit your application electronically via Grants.gov:

• Electronic submission is voluntary.

• When you enter the Grants.gov site, you will find information about submitting an application electronically through the site, as well as the hours of operation. We strongly recommend that you do not wait until the application deadline date to begin the application process through Grants.gov.

• To use Grants.gov, you, as the applicant, must have a DUNS Number to register in the Central Contractor Registry (CCR). You should allow a minimum of five days to complete the CCR registration.

• You will not receive additional point value because you submit a grant application in electronic format, nor will we penalize you if you submit an application in paper format.

• You may submit all documents electronically, including all information typically included on the SF 424 and all necessary assurance and certifications.

• Your application must comply with any page limitation requirements described in this program announcement.

• After you electronically submit your application, you will receive an automatic acknowledgement from Grants.gov that contains a Grants.gov tracking number. The Administration for Children and Families will retrieve your application from Grants.gov.

• We may request that you provide original signatures on forms at a later date.

• You may access the electronic application for this program on http://www.Grants.gov. You must search for the downloadable application package by the CFDA number.

Application Content

Each application must include the following components:

Proof of Non-Profit Status—Documentation about the applicant agency's non-profit status. Please include any one of the following:

• A reference to the applicant organization's listing in the Internal Revenue Service's (IRS) most recent list of tax-exempt organizations described in the IRS code.

• A copy of a currently valid IRS tax exemption certificate.

• A statement from a State taxing body, State Attorney General, or other appropriate State official certifying that the applicant organization has a non-profit status and that none of the net earnings accrue to any private shareholders or individuals.

• A certified copy of the organization's certificate of incorporation or similar document that clearly establishes non-profit status.

• Any of the items in the subparagraphs immediately above for a State or national parent organization and a statement signed by the parent organization that the applicant organization is a local non-profit affiliate.

Proof of Status as Private Non-Profit Community Development Corporation—Proof of status as a CDC. Please include any one of the following:

• A list of governing board members along with their designation as a community resident or business or civic leader; and

• Documentation that the applicant organization has as a primary purpose planning, developing or managing low-income housing or community development activities. This documentation may include incorporation documents or other official documents that identify the organization.

Abstract of the Proposed Project—One or two paragraphs, not to exceed 350 words, that describe the community in which the project will be implemented, beneficiaries to be served, type(s) of business(es) to be developed, type(s) of jobs to be created, projected cost-per-job, any land or building to be purchased or building constructed, resources leveraged and intended impact on the community.

Completed Standard Form 424—That has been signed by an official of the organization applying for the grant who has legal authority to obligate the organization. Under Box 11. indicate the Priority Area for which the application is written.

Standard Form 424A—Budget Information—Non-Construction Programs.

Standard Form 424B—Assurances—Non-Construction Programs.

Narrative Budget Justification—For each object class category required under Section B, Standard Form 424A.

Applicants are encouraged to use job titles and not specific names in developing the application budget. However, the specific salary rates or amounts for staff positions identified must be included in the application budget.

Applicants have the option of omitting from the application copies (not the original) specific salary rates or amounts for individuals specified in the application budget and Social Security Numbers. The copies may include summary salary information.

Project Narrative—A narrative that addresses issues described in the “Application Review Information” and the “Review and Selection Criteria” sections of this announcement.

Evaluation Plan—Description of an independent, methodologically sound evaluation of the effectiveness of the activities carried out with the grant and the organization's efficacy in creating new jobs and business ownership opportunities. Please see Section I. Funding Opportunity Description for additional information on preparing the Evaluation Plan.

Third Party Agreement (if applicable)—Applicants that propose to use some or all of the requested CED funds to enter into a third party agreement in order to make an equity investment, such as the purchase of stock or a loan to an organization or business entity (including a wholly-owned subsidiary), are required to submit the signed Third Party Agreement in the application, along with the business plan, for approval by OCS. Please see Section I. Funding Opportunity Description for additional guidance in preparing the Third Party Agreement.

Application Format

Submit application materials on white 8½ x 11 inch paper only. Do not use colored, oversized or folded materials.

Do not include organizational brochures or other promotional materials, slides, films, clips, etc.

The font size may be no smaller than 12 pitch and the margins must be at least one inch on all sides.

Number all application pages sequentially throughout the package, 60 pages max, beginning with the abstract of the proposed project as page number one.

Present application materials either in loose-leaf notebooks or in folders with pages two-hole punched at the top center and fastened separately with a slide paper fastener.

Each application should include one signed original and two additional copies.

Page Limitation

The application package including sections for the Table of Contents, Project Abstract, Project and Budget Narratives, must not exceed 60 double spaced pages. The page limitation does not include Standard Forms and Assurances, Certifications, Disclosures, appendices and any supplemental documents as required in this announcement.

An application that exceeds the page limitation specified will be considered “non-responsive” and will be returned to the applicant without further review.

Required Standard Forms

Applicants must submit a signed Standard Form 424, Application for Federal Assistance, Standard Form 424A Budget Information—Non-Construction Projects, and Standard Form 424B, “Assurances: Non-Construction Programs.”

Applicants must provide a certification regarding lobbying when applying for an award in excess of $100,000. Applicants must sign and return the certification with their applications.

Applicants must disclose lobbying activities on the Standard Form LLL when applying for an award in excess of $100,000. Applicants who have used non-Federal funds for lobbying activities in connection with receiving assistance under this announcement shall complete a disclosure form to report lobbying. Applicants must sign and return the disclosure form, if applicable, with their applications.

Applicants must make the appropriate certification of their compliance with all Federal statutes relating to non-discrimination. Applicants provide certification by signing the SF424 and need not mail back the certification with the application.

Applicants must make the appropriate certification of their compliance with the requirements of the Pro-Children Act of 1994 as outlined in Certification Regarding Environmental Tobacco Smoke. Applicants provide certification by signing the SF424 and need not mail back the certification with the application.

Private, non-profit organizations are encouraged to submit with their applications the survey located under “Grant Related Documents and Forms” titled “Survey for Private, Non-Profit Grant Applicants.” The forms are located on the Web at http://www.acf.hhs.gov/programs/ofs/forms.htm.

IV.3. Submission Dates and Times

The closing time and date for receipt of applications is 4:30 p.m. (Eastern Standard Time) on September 16, 2004. Mailed or hand carried applications received after 4:30 p.m. on the closing date will be classified as late.

Deadline: Mailed applications shall be considered as meeting an announced deadline if they are received on or before the deadline time and date at the U.S. Department of Health and Human Services, Administration for Children and Families, Office of Community Services Operations Center, 1815 North Fort Myer Drive, Suite 300, Arlington, Virginia 22209. Applicants are responsible for mailing applications well in advance, when using all mail services, to ensure that the applications are received on or before the deadline time and date.

Applications hand carried by applicants, applicant couriers, other representatives of the applicant, or by overnight express mail couriers shall be considered as meeting an announced deadline if they are received on or before the deadline date, between the hours of 8 a.m. and 4:30 p.m., e.s.t., at the U.S. Department of Health and Human Services, Administration for Children and Families, Office of Community Services Operations Center, 1815 North Fort Myer Drive, Suite 300, Arlington, Virginia 22209, between Monday and Friday (excluding Federal holidays). This address must appear on the envelope/package containing the application with the note: “Attention: Office of Community Services Operations Center.” Applicants are cautioned that express/overnight mail services do not always deliver as agreed.

Late applications: Applications that do not meet the criteria above will be considered late applications. ACF will notify each late applicant that its application will not be considered in the current competition.

Extension of deadlines: ACF may extend application deadlines when circumstances such as acts of God (floods, hurricanes, etc.) occur, or when there are widespread disruptions of mail service. Determinations to extend or waive deadline requirements rest with the Chief Grants Management Officer.

Required Forms:

What to submit | Required content | Required form or format | When to submit
Table of Contents | A numbered list of key parts of the application | Consistent with guidance in Section IV. Content and Form of Application Submission | By application due date.
Project Summary/Abstract | Very brief narrative that identifies the type of project, the target population and the major elements of the work plan | Consistent with guidance in Section IV. Content and Form of Application Submission | By application due date.
Objectives and Needs for Assistance | Narrative that describes the economic situation and needs of residents of the target neighborhood(s) and the comprehensive community building or neighborhood transformation effort that is planned or currently underway in that neighborhood | Consistent with guidance in Section IV. Content and Form of Application Submission and Section V. Evaluation Criteria | By application due date.
Results or Benefits Expected | Narrative that identifies the results and benefits to be derived. For example, the number of new jobs that will be targeted for residents | Consistent with Section IV. Content and Form of Application Submission and Section V. Evaluation Criteria | By application due date.
Approach | Overall Project Work Plan | Consistent with Section IV. Content and Form of Application Submission and Section V. Evaluation Criteria | By application due date.
Organizational Profile | Description of organizational ability | Consistent with guidance in Section IV. Content and Form of Application Submission and Section V. Evaluation Criteria | By application due date.
Budget and Budget Justification | Budget information including: (a) Narrative budget justification; (b) Completed Standard Form 424; (c) Completed Standard Form 424A | Consistent with guidance in Section IV. Content and Form of Application Submission and Section V. Evaluation Criteria. Required Standard Forms are posted on the Internet at http://www.acf.hhs.gov/programs/ofs/forms.htm | By application due date.
Evaluation Plan | Description of the plan to assess project outcomes | Consistent with guidance in Section I. Funding Opportunity Description and Section IV. Content and Form of Application submission | By application due date.
Third-party Agreement (if applicable) | Agreement with third party for equity investments | Consistent with guidance in Section I. Funding Opportunity Description Section and Section IV. Content and Form of Application submission | By application due date.
Certification regarding lobbying | As per required form | Required Standard Forms are posted on the Internet at http://www.acf.hhs.gov/programs/ofs/forms.htm | By application due date.
Certification regarding environmental tobacco smoke | As per required form | Required Standard Forms are posted on the Internet at http://www.acf.hhs.gov/programs/ofs/forms.htm | By application due date.

Additional Forms: Private-non-profit organizations may submit with their applications the additional survey located under “Grant Related Documents and Forms” titled “Survey for Private, Non-Profit Grant Applicants”.

What to submit | Required content | Required form or format | When to submit
Survey for Private, Non-Profit Grant Applicants | Per required form | May be found on http://www.acf.hhs.gov/programs/ofs/form.htm | By application due date.

IV.4. Intergovernmental Review

State Single Point of Contact (SPOC)

This program is covered under Executive Order 12372, “Intergovernmental Review of Federal Programs,” and 45 CFR Part 100, “Intergovernmental Review of Department of Health and Human Services Programs and Activities.” Under the Order, States may design their own processes for reviewing and commenting on proposed Federal assistance under covered programs. As of June 20, 2001, the following jurisdictions have elected not to participate in the Executive Order process. Applicants from these jurisdictions or for projects administered by federally-recognized Indian Tribes need take no action in regard to E.O. 12372.

All States and Territories except Alabama, Alaska, Arizona, Colorado, Connecticut, Hawaii, Idaho, Indiana, Kansas, Louisiana, Massachusetts, Minnesota, Montana, Nebraska, New Jersey, North Carolina, Ohio, Oklahoma, Oregon, Pennsylvania, South Dakota, Tennessee, Vermont, Virginia, Washington and Wyoming have elected not to participate in the Executive Order process and have established Single Point of Contacts (SPOCs). Applicants from these twenty-five jurisdictions need take no action regarding Executive Order 12372.

Although the jurisdictions listed above no longer participate in the process, entities which have met the eligibility requirements of the program are still eligible to apply for a grant even if a State, Territory, Commonwealth, etc. does not have a SPOC. All remaining jurisdictions participate in the Executive Order process and have established SPOCs. Applicants from participating jurisdictions should contact their SPOCs as soon as possible to alert them about the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official State process recommendations which may trigger the “accommodate or explain” rule.

Comments should be submitted directly to Department of Health and Human Services, Administration for Children and Families, Office of Grants Management, Division of Discretionary Grants, Aerospace Building—4th Floor West, 370 L'Enfant Promenade, SW., Washington, DC 20447. A list of the Single Points of Contact for each State and Territory is included with the application materials for this announcement.

IV.5. Funding Restrictions

Cost Per Job

OCS will not fund projects with a cost-per-job in CED funds that exceeds $10,000. An exception will be made if the project includes purchase of land or a building, or major renovation or construction of a building. In this instance, the applicant must explain the factors that raise the cost beyond $10,000. In no instance, will OCS allow for more than $15,000 cost-per-job in CED funds. Cost per job is calculated by dividing the amount of funds requested by the number of jobs to be created.

National Historic Preservation Act

If an applicant is proposing a project which will affect a property listed in, or eligible for, inclusion in the National Register of Historic Places, it must identify this property in the narrative and explain how it has complied with the National Historic Preservation Act of 1996, as amended. If there is any question as to whether the property is listed in or eligible for inclusion in the National Register of Historic Places, the applicant must consult with the State Historic Preservation Officer and describe in the narrative the content of such consultation.

Sub-Contracting or Delegating Projects

OCS will not fund any project where the role of the applicant is primarily to serve as a conduit for funds to organizations other than the applicant. The applicant must have a substantive role in the implementation of the project for which funding is requested. This prohibition does not bar the making of sub-grants or sub-contracting for specific services or activities needed to conduct the project.

Number of Projects in Application

Except for the retail development initiative under Priority Area 1. Operational Projects, each application may include only one proposed project.

Prohibited Activities

OCS will not consider applications that propose to establish Small Business Investment Corporations or Minority Enterprise Small Business Investment Corporations.

OCS will not fund projects that are primarily education and training projects. In projects where participants must be trained, any funds proposed for training must be limited to specific job-related training to those individuals who have been selected for employment in the grant supported project. Projects involving training and placement for existing vacant positions will be disqualified from competition.

OCS will not fund projects that would result in the relocation of a business from one geographic area to another resulting in job displacement.

Pre-award costs will not be covered by an award.

IV.6. Other Submission Requirements

Submission by Mail: An Applicant must provide an original application with all attachments, signed by an authorized representative and two copies. The Application must be received at the address below by 4:30 p.m. eastern standard time on or before the closing date. Applications should be mailed to: Department of Health and Human Services (HHS), Administration for Children and Families, Office of Community Services Operations Center, 1815 Fort Meyer Drive, Suite 300, Arlington, Virginia 22209.

For Hand Delivery: Applicant must provide an original application with all attachments, signed by an authorized representative and two copies. The Application must be received at the address below by 4:30 p.m. eastern standard time on or before the closing date. Applications that are hand delivered will be accepted between the hours of 8 a.m. to 4:30 p.m., Monday through Friday. Applications may be delivered to: Department of Health and Human Services (HHS), Administration for Children and Families, Office of Community Services Operations Center, 1815 Fort Meyer Drive, Suite 300, Arlington, Virginia 22209. It is strongly recommended that applicants obtain documentation that the application was hand delivered on or before the closing date. Applicants are cautioned that express/overnight mail services do not always deliver as agreed.

V. Application Review Information

1. Criteria

Instructions: ACF Uniform Project Description (UPD)

The following are instructions and guidelines on how to prepare the “project summary/abstract” and “Full Project Description” sections of the application. The generic UPD requirement is followed by the evaluation criterion specific to the Community Economic Development National Philanthropic Institution Projects program. Public Reporting for this collection of information is estimated to average 25 hours per response, including the time for reviewing instructions, gathering and maintaining the data needed, and reviewing the collection information.

The project description is approved under OMB Control Number 0970-0139 which expires 4/30/2007.

An agency may nor conduct or sponsor, and a person is not required to respond to, a collection of information unless it displays a currently valid OMB control number.

Purpose

The project description provides a major means by which an application is evaluated and ranked to compete with other applications for available assistance. The project description should be concise and complete and should address the activity for which Federal funds are being requested. Supporting documents should be included where they can present information clearly and succinctly. In preparing your project description, all information requested through each specific evaluation criteria should be provided. Awarding offices use this and other information in making their funding recommendations. It is important, therefore, that this information be included in the application in a manner that is clear and complete.

Introduction

Applicants required to submit a full project description shall prepare the project description statement in accordance with the following instructions while being aware of the specified evaluation criteria. The text options give a broad overview of what your project description should include while the evaluation criteria identifies the measures that will be used to evaluate applications.

Project Summary/Abstract

Provide a summary of the project description (a page or less) with reference to the funding request.

Objectives and Need for Assistance

Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or Benefits Expected

Identify the results and benefits to be derived. Explain how the project will reach the targeted population and how it will benefit participants or the community.

Approach

Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity in, for example, such terms as the “number of people served.” When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

Evaluation

Provide a narrative addressing how the results of the project and the conduct of the project will be evaluated. In addressing the evaluation of results, state how you will determine the extent to which the project has achieved its stated objectives and the extent to which the accomplishment of objectives can be attributed to the project. Discuss the criteria to be used to evaluate results, and explain the methodology that will be used to determine if the needs identified and discussed are being met and if the project results and benefits are being achieved. With respect to the conduct of the project, define the procedures to be employed to determine whether the project is being conducted in a manner consistent with the work plan presented and discuss the impact of the project's various activities on the project's effectiveness.

Organizational Profiles

Provide information on the applicant organization(s) and cooperating partners such as organizational charts, financial statements, audit reports, statements from CPA's/Licensed Public Accountants, Employer Identification Numbers, names of bond carriers, contact persons and telephone numbers, child care licenses and other documentation of professional accreditation, information on compliance with Federal/State/local government standards, documentation of experience in the program area, and other pertinent information.

The non-profit agency can accomplish this by providing: (a) A reference to the applicant organization's listing in the Internal Revenue Service's (IRS) most recent list of tax-exempt organizations described in the IRS Code Section 501(c)(3) of the IRS code; (b) a copy of the currently valid IRS tax exemption certificate; (c) a statement from a State taxing body, State attorney general, or other appropriate State official certifying that the applicant organization has a non-profit status and that none of the net earnings accrue to any private shareholders or individuals; (d) a certified copy of the organization's certificate of incorporation or similar document that clearly establishes non-profit status, (e) any of the items immediately above for a State or national parent organization and a statement signed by the parent organization that the applicant organization is a local non-profit affiliate.

Budget and Budget Justification

Provide line item detail and detailed calculations for each budget object class identified on the Budget Information form. Detailed calculations must include estimation methods, quantities, unit costs, and other similar quantitative detail sufficient for the calculation to be duplicated. Also include a breakout by the funding sources identified in Block 15 of the SF-424.

Provide a narrative budget justification that describes how the categorical costs are derived. Discuss the necessity, reasonableness, and allocability of the proposed costs.

2. Evaluation Criteria

Criteria for Review and Evaluation of Applications Submitted Under Priority Area 1—Operational Projects

Evaluation Criterion I: Approach (Maximum: 35 Points)

• a(1). The extent to which the project describes the proposed public market and types of vendors and products and services to be sold. (0-3)

• a(2). The extent to which the application documents the market research and marketing plan for the project. (0-2)

• a(3). The extent to which the operations plan and schedule document a timeline and benchmarks providing for completion of the project within two years. (0-10)

b. The extent to which the applicant demonstrates they have firm site control. (0-5)

c. The extent to which the applicant demonstrates their executed third party agreements meet the requirements set forth above. (0-5)

d. The extent to which the applicant demonstrates their required financial documents are contained in the application, and clearly describe proposed use of CED funds and demonstrate that the project is viable. (0-10)

Evaluation Criterion II: Organizational Profiles (Maximum: 20 Points)

a. Organizational profile: The extent to which the applicant demonstrates that it has the management capacity, organizational structure and successful record of accomplishment relevant to business development, commercial development, physical development, and/or financial services and that it has the ability to mobilize other financial and in-kind resources. (0—10 points)

b. Staff skills, resources and responsibilities: The extent to which the application describes in brief resume form the experience and skills of the project director who is not only well qualified, but whose professional capabilities are relevant to the successful implementation of the project. If the key staff person has not yet been identified, the application contains a comprehensive position description that indicates that the responsibilities to be assigned to the project director are relevant to the successful implementation of the project. (0-5 points)

The extent to which the applicant has adequate facilities and resources (i.e. space and equipment) to successfully carry out the work plan. (0-3 points)

The extent to which the assigned responsibilities of the staff are appropriate to the tasks identified for the project and sufficient time of senior staff will be budgeted to assure timely implementation and cost effective management of the project. (0-2 points)

Evaluation Criterion III: Results or Benefit Expected (Maximum: 15 Points)

a. Results or Benefits Expected: The extent to which the applicant proposes to produce permanent and measurable results including, but not limited to, employment and business ownership opportunities for low income individuals and their families. (0-8 points)

b. Community empowerment and coordination: The extent to which the applicant provides documentation that it is an active partner in either a new or on-going comprehensive community revitalization project such as: a federally-designated Empowerment Zone, Enterprise Community or Renewal Community project that has clear goals of strengthening economic and human development in target neighborhoods; a State or local-government supported comprehensive neighborhood revitalization project; or a private sector supported community revitalization project. (0-2 points)

c. Cost-per-job: The extent to which the applicant indicates that during the project period, the proposed project will create new, permanent jobs or maintain permanent jobs for low-income residents at a cost-per-job not to exceed $10,000 in OCS funds unless the project involves purchase of land or building or construction or significant renovation in which instance the cost per job may not exceed $15,000. (0-5 points)

Evaluation Criterion IV: Objectives and Need for Assistance (Maximum: 10 Points)

The extent to which the applicant shows and documents that the project addresses a vital need in a distressed community. “Distressed community” is defined as a geographic urban neighborhood or rural community with high unemployment and pervasive poverty. The application documents that both the unemployment rate and poverty level for the targeted neighborhood or community must be equal to or greater than the state or national level. (0-5 points)

The extent to which the application cites the most recent available statistics from published sources e.g. the recent U.S. Census or updates, the State, county, city, election district and other information are provided in support of its contention. (0-2 points)

The extent to which the application shows how the project will respond to stated need. (0-3 points)

Evaluation Criterion V: Project Evaluation (Maximum: 5 Points)

a. The extent to which the applicant provides a well thought through outline of an evaluation plan that identifies the principal cause-and-effect relationships to be tested, and that demonstrates the applicant understands of the role and purpose of both process and outcome evaluations. (0-3 points)

b. The extent to which the application provides the identity and qualifications of the proposed third-party evaluator, of if not selected, the qualifications which will be sought in choosing an evaluator, which must include successful experience in evaluating community development programs, and the planning and/or evaluation of programs designed to foster self-sufficiency in low-income populations. (0-2 points)

Evaluation Criterion VI: Public-Private Partnerships (Maximum: 10 Points)

a. Mobilization of resources: The extent to which the applicant shows through documentation that it has mobilized from public and/or private sources the proposed balance of non-CED funding required to fully implement the project. Lesser contributions will be given consideration based upon the value documented. (0-5 points)

b. Integration/coordination of services: The extent to which the applicant demonstrates a commitment to, or agreements with, local agencies responsible for administering child support enforcement, employment education, and training programs to ensure that welfare recipients, at-risk youth, displaced workers, public housing tenants, homeless and low-income individuals, and low-income custodial and non-custodial parents will be trained and placed in the newly created jobs. The extent to which the applicant provides written agreements from the local TANF or other employment education and training offices, and child support enforcement agency indicating what actions will be taken to integrate/coordinate services that relate directly to the project for which funds are being requested. (0-3 points)

The extent to which the agreement shows: (1) The goals and objectives that the applicant and the TANF or other employment education and training offices and/or child support enforcement agency expect to achieve through their collaboration; (2) the specific activities/actions that will be taken to integrate/coordinate services on an on-going basis; (3) the target population that this collaboration will serve; (4) the mechanism(s) to be used in integrating/coordinating activities; (5) how those activities will be significant in relation to the goals and objectives to be achieved through the collaboration; and (6) how those activities will be significant in relation to their impact on the success of the OCS-funded project. (0-2 points)

Evaluation Criterion VII: Budget and Budget Justification (Maximum: 5 Points)

a. The extent to which the application shows that the funds requested are commensurate with the level of effort necessary to accomplish the goals and objectives of the project. (0-2 points)

b. The extent to which the application includes a detailed budget breakdown and a narrative justification for each of the budget categories in the SF-424A. The applicant presents a reasonable administrative cost. (0-2 points)

c. The extent to which the application shows that the estimated cost to the government of the project also is reasonable in relation to the anticipated results. (0-1 point)

V.2. Review and Selection Process

OCS Evaluation of Applications

Applications that pass the initial OCS screening or conformity with the “Eligibility” and “Content and Form of Application Submission” requirements will be reviewed and rated by a panel based on the program elements and review criteria presented in relevant sections of this program announcement.

The review criteria are designed to enable the review panel to assess the quality of a proposed project and determine the likelihood of its success. The criteria are closely related to each other and are considered as a whole in judging the overall quality of an application. The review panel awards points only to applications that are responsive to the program elements and relevant review criteria within the context of this program announcement.

The OCS Director and the program staff use the reviewer scores when considering competing applications. Reviewer scores will weigh heavily in funding decisions, but will not be the only factors considered.

Applications generally will be considered in order of the average scores assigned by the review panel. Because other important factors are taken into consideration, highly ranked applications are not guaranteed funding. These other considerations include, for example: the timely and proper completion by the applicant of projects funded with OCS funds granted in the last five (5) years; comments of reviewers and government officials; staff evaluation and input; amount and duration of the grant requested and the proposed project's consistency and harmony with OCS goals and policy; geographic distribution of applications; previous program performance of applicants; compliance with grant terms under previous HHS grants, including the actual dedication to program of mobilized resources as set forth in project applications; audit reports; investigative reports; and applicant's progress in resolving any final audit disallowance on previous OCS or other Federal agency grants.

VI. Award Administration Information

VI.1. Award Notices

Following approval of the applications selected for funding, notice of project approval and authority to draw down projects will be made in writing. The official award document is the Financial Assistance Award, which provides the amount of Federal funds approved for use in the project, the project and budget periods for which support is provided, the terms and conditions of the award, and the total project period for which support is contemplated. The Financial Assistance Award will be signed by the Grants Officer.

VI.2. Administrative and National Policy Requirements

Grantees are subject to the requirements in 45 CFR Parts 74 (non-governmental) or 45 CFR Part 92 (governmental).

VI.3. Reporting

All grantees are required to submit semi-annual program and financial reports (SF-269) with a final report due 90 days after the project end date. A suggested format for the program report will be sent to all grantees after the awards are made.

VII. Agency Contacts

Program Office Contact: Debbie Brown, Office of Community Services, 370 L'Enfant Promenade, SW., Suite 500 West, Aerospace Building, Washington, DC 20447-0002, e-mail: dbrown@acf.hhs.gov, Telephone: (202) 401-3446.

Grants Management Office Contact: Barbara Ziegler Johnson, Office of Grants Management, Division of Discretionary Grants, 370 L'Enfant Promenade, SW., Aerospace Building, Washington, DC 20447-0002., e-mail: bziegler-johns1@acf.hhs.gov, Telephone: (202) 401-4646.

General Contact: Office of Community Services, Operations Center, 1815 North Fort Myer Drive, Suite 300, Arlington, Virginia 22209, e-mail: ocs@lcgnet.com, Telephone: (800) 281-9519.

VIII. Other Information

Additional information about this program and its purpose can be located on the following Web site: http://www.acf.hhs.gov/programs/ocs.

Dated: August 12, 2004.
Clarence H. Carter,
Director, Office of Community Services.

[FR Doc. 04-18783 Filed 8-16-04; 8:45 am]

BILLING CODE 4184-01-P